COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products to the Procurement List that will be furnished by nonprofit agencies employing persons who are blind or have other severe disabilities, and deletes products from the Procurement List previously furnished by such agencies.

DATES: Date added to and deleted from the Procurement List: April 21, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 8/31/2018 (83 FR 170) and on 2/8/2019 (84 FR 27), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSNs—Product Names:

MR 1100—Set, Brush

MR 1110—Brush, Bottle

MR 13135—Tray, Ice Cube, No Spill

MR 13134—Container, Square, Pop, Small, 0.3 Qt.

MR 13133—Container, Rectangle, Pop, 2.5 Qt.

MR 13132—Container, Square, Pop, Small, 0.9 Qt.

MR 13131—Container, Rectangle, Pop, 1.5 Qt

MR 13130—Set, Bowl, Colander, Large, 3 pc

MR 13129—Set, Container, Plastic, 16 pc

MR 13128—Set, Bowl, Mixing, 3 pc

MR 13127—Colander, Plastic

MR 13126—Board, Cutting, Prep

MR 13125—Board, Cutting, Utility

MR 13124—Set, Clip, 8 pc

MR 13122—Box, Grater

MR 13121—Clips, Magnetic

MR 13120—Set, Container, Pop, 5pc

MR 1124—Basket, Suction, Sink, Steel

MR 1123—Mat Drying, Silicone, Large

MR 1122—Brush, Dish

MR 1119—Rack, Dish

MR 1118—Holder, Sponge

MR 1114—Mat, Sink, Small

MR 1112—Set, Cleaning, Water Bottle

MR 1111—Strainer, Sink

MR 13009—Salad Chopper with Bowl

Mandatory Source of Supply: Cincinnati Association for the Blind, Cincinnati, OH

Mandatory For Contracting Activity: Military Resale-Defense Commissary Agency

Deletions

On 2/1/2019 (84 FR 22), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSNs—Product Names:

8345-00-673-9992—Streamer, Warning, Aircraft, Red, 24″ x 3″

Mandatory Source of Supply: Coastal Enterprises of Jacksonville, Inc., Jacksonville, NC

Contracting Activity: DLA Troop Support, Philadelphia, PA

NSNs—Product Names: MR 893—Ergo Grater

Mandatory Source of Supply: Cincinnati Association for the Blind, Cincinnati, OH

MR 443—Candle, Soy, Cucumber Melon Scented, 8.5oz

MR 445—Candle, Soy, Thai Lemon Scented, 8.5oz

MR 447—Candle, Soy, Venetian Nights Scented, 8.5oz

MR 410—Bag, Shopping Tote, Laminated, Small, Summer

MR 411—Bag, Shopping Tote, Laminated, Large, Summer

MR 412—Grocery Shopping Tote Bag, Laminated, Seasonal, Fall, Small

MR 422—Grocery Shopping Tote Bag, Laminated, Breast Cancer, Small

MR 459—Grocery Shopping Tote Bag, Laminated, Easter, Blue Eggs, Gift

MR 460—Grocery Shopping Tote Bag, Laminated, Easter, Blue Eggs, Small

MR 461—Grocery Shopping Tote Bag, Laminated, Easter, Blue Eggs, Large

MR 466—Grocery Shopping Tote Bag, Laminated, Easter, Orange Eggs, Gift

MR 468—Grocery Shopping Tote Bag, Laminated, Easter, Orange Eggs, Large

MR 11011—Grocery Shopping Tote Bag, Laminated, Commissary 150th Anniversary, Exterior Scene

MR 11050—Grocery Shopping Tote Bag, Laminated, Spring, Purple, Small

MR 11084—Grocery Shopping Tote Bag, Laminated, Heart Smart, Small

Mandatory Source of Supply: Industries for the Blind and Visually Impaired, Inc., West Allis, WI

MR 11301—Cooler, Styrofoam, Handled, 12 Qt.

Mandatory Source of Supply: Winston-Salem Industries for the Blind, Inc., Winston-Salem, NC

Contracting Activity: Military Resale-Defense Commissary Agency

NSNs—Product Names:

7510-01-624-8699—Refill, Pen, Roller Ball, Retractable, Airplane Safe, Black Ink, 0.5mm

7510-01-624-8698—Refill, Pen, Roller Ball, Retractable, Airplane Safe, Blue Ink, 0.5mm

7510-01-624-8697—Refill, Pen, Roller Ball, Retractable, Airplane Safe, Black Ink, 0.7mm

7510-01-624-8700—Refill, Pen, Roller Ball, Retractable, Airplane Safe, Blue Ink, 0.7mm

Mandatory Source of Supply: San Antonio Lighthouse for the Blind, San Antonio, TX

7530-01-515-7901—Paper, Printer, Ink Jet, Photo Quality, Matte, Letter, 89 Bright White

Mandatory Source of Supply: Wiscraft, Inc., Milwaukee, WI

6645-01-492-9821—Clock, Wall, Atomic, Bronze, Custom Logo, 12 ¾″ Diameter

6645-01-491-9830—Clock, Wall, Atomic, White, Custom Logo, 9 ¼″ Diameter

6645-01-491-9805—Clock, Wall, Atomic, White, 9 ¼″ Diameter

6645-01-421-6905—Clock, Wall, Slimline, Stone Gray, 9 ¼″ Quartz

6645-01-456-6031—Clock, Wall, 24 Hour, Slimline, Bronze, Custom Logo, 9 ¼″ Quartz

Mandatory Source of Supply: Chicago Lighthouse Industries, Chicago, IL

7530-01-600-2019—Notebook, Spiral Bound, Biobased Bagasse Paper, 8x10½″ , 70 sheets, College Rule, White

Mandatory Source of Supply: Winston-Salem Industries for the Blind, Inc., Winston-Salem, NC

Contracting Activity: GSA/FAS ADMIN SVCS ACQUISITION BR(2, NEW YORK, NY

NSN—Product Name: 8010-00-935-7079—Enamel, Lacquer, Acrylic, Flat Black

Mandatory Source of Supply: The Lighthouse for the Blind, St. Louis, MO

Contracting Activity: Defense Logistics Agency

Patricia Briscoe,
Deputy Director, Business Operations (Pricing and Information Management).

[FR Doc. 2019-05532 Filed 3-21-19; 8:45 am]

BILLING CODE 6353-01-P